DEPARTMENT OF JUSTICE

Parole Commission

Public Announcement; Pursuant to the Government in the Sunshine Act (Pub. L. 94-409) [5 U.S.C. 552b]; Meeting Notice

TIME AND DATE: 10 a.m., Tuesday, October 6, 2009.

PLACE: 5550 Friendship Blvd., Fourth Floor, Chevy Chase, MD 20815.

STATUS: Open.

MATTERS TO BE CONSIDERED: The following matters have been placed on the agenda for the open Parole Commission meeting:

1. Approval of Minutes of July 16, 2009 Quarterly Business Meeting.

2. Approval of Final Rule on Applying the 1987 DC Board of Parole Guidelines to Sellmon cases.

3. Reports from the Chairman, Commissioners, Chief of Staff, and Section Administrators.

AGENCY CONTACT: Thomas W. Hutchison, Chief of Staff, United States Parole Commission. (301) 492-5990.

Dated: September 24, 2009.
Rockne J. Chickinell,
General Counsel, U.S. Parole Commission.

[FR Doc. E9-23593 Filed 9-30-09; 8:45 am]

BILLING CODE 4410-31-M